ENVIRONMENTAL PROTECTION AGENCY

[EPA-R9-2025-01; FRL-12340-01-R9]

Notice of Proposed Administrative Settlement Agreement for Response Action and Payment of Response Costs by Bona Fide Prospective Purchaser at 9648 Santa Fe Springs Road and 9951 and 9848 Greenleaf Avenue in Santa Fe Springs, Los Angeles County, California

AGENCY: Environmental Protection Agency (EPA).

ACTION: Notice of proposed settlement; request for public comment.

SUMMARY: In accordance with the Comprehensive Environmental Response, Compensation, and Liability Act of 1980, as amended (“CERCLA”), notice is hereby given that the Environmental Protection Agency (“EPA”), has entered into a proposed settlement, embodied in an Administrative Settlement Agreement for Recovery of Past Response Costs for Response Action and Payment of Response Costs by Bona Fide Prospective Purchaser (“Settlement Agreement”), with Greenleaf Business Center LLC (“Greenleaf”). Under the Settlement Agreement, Greenleaf agrees to perform a response action and pay response costs incurred by the United States at or in connection with the properties located at 9648 Santa Fe Springs Road and 9951 and 9848 Greenleaf Avenue in Santa Fe Springs, California (collectively, the “Property”). All three of these properties are part of the Waste Disposal, Inc. Superfund Site.

DATES: Comments must be received on or before February 23, 2026.

ADDRESSES: Please contact Ylan Nguyen at nguyen.Ylan@epa.gov or (415) 972-3875 to request a copy of the Settlement Agreement or visit https://semspub.epa.gov/work/09/100046053.pdf. Comments on the Settlement Agreement should be submitted in writing and be addressed to Ylan Nguyen at Nguyen.ylan@epa.gov. Comments should reference the Property, 9648 Santa Fe Springs Road and 9951 and 9848 Greenleaf Avenue, Santa Fe Springs, California, and the EPA Docket Number for the Settlement Agreement, EPA R9-2025-01. If for any reason you are not able to submit a comment by email, please contact Ylan Nguyen at (415) 972-3875 to make alternative arrangements for submitting your comment. EPA will post its response to comments at https://cumulis.epa.gov/supercpad/cursites/csitinfo.cfm?id=0902140, EPA's web page for the Waste Disposal, Inc. Superfund Site.

FOR FURTHER INFORMATION CONTACT: Ylan Nguyen, Assistant Regional Counsel, Office of Regional Counsel (ORC-3), U.S. Environmental Protection Agency, 75 Hawthorne Street, San Francisco, California 94105; nguyen.ylan@epa.gov; 415-972-3875.

SUPPLEMENTARY INFORMATION: Notice of this proposed Settlement Agreement is made in accordance with the Attorney General's authority to compromise and settle claims of the United States, consistent with the Comprehensive Environmental Response, Compensation, and Liability Act of 1980, as amended (“CERCLA”), 42 U.S.C. 9601-9675, and Section 7003(d) of RCRA, 42 U.S.C. 6973(d). Under the terms of the Settlement Agreement, Purchaser agrees to perform a response action at the Property, secure financial assurance in the amount of $22,969,655.00, and pay EPA costs for oversight of the cleanup activities. In exchange, the United States will provide Purchaser with a covenant not to sue or to take administrative action against Purchaser pursuant to Sections 106 and 107(a) of CERCLA, 42 U.S.C §§ 9606 and 9607(a), and Section 7003 of RCRA, 42 U.S.C. 6973(d). Under section 7003(d) of RCRA, a commenter may request an opportunity for a public meeting in the affected area. EPA will consider all comments received on the Settlement Agreement in accordance with the DATES and ADDRESSES sections of this Notice and may modify or withdraw its consent to the Settlement Agreement if comments received disclose facts or considerations that indicate that the settlement is inappropriate, improper, or inadequate.

Dated: December 17, 2025.
Michael Montgomery,
Director, Superfund and Emergency Management Division, Region 9.

[FR Doc. 2026-01276 Filed 1-22-26; 8:45 am]

BILLING CODE 6560-50-P